DEPARTMENT OF HEALTH AND HUMAN SERVICES

Centers for Disease Control and Prevention

[60Day-13-13[I]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to LeRoy Richardson, at CDC 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) 2 ways to minimize the burden of the collection of information on respondents, including through the use of automated collection techniques or other forms of information technology. Written comments should be received within 60 days of this notice.

Proposed Project

ROPS Attributes Identified by Distribution Channel Intermediaries—New—National Institute for Occupational Safety and Health (NIOSH), Centers for Disease Control and Prevention (CDC).

Background and Brief Description

The mission of the National Institute for Occupational Safety and Health (NIOSH) is to promote safety and health at work for all people through research and prevention. The prevention of traumatic injury is within the purview of NIOSH, and elevated incidence and rates of traumatic injury are found in the farming community. High rates of traumatic injury are associated with the use of older tractors that are not equipped with rollover protective structures (ROPS), which have been proven to reduce tractor-rollovers, a leading cause of injury to agricultural workers. To reduce the incidence of traumatic injury among farm workers, NIOSH proposes to administer stated-preference questionnaires designed to assess preference among a group of tractor-parts dealers in Pennsylvania, New York, New Hampshire and Vermont, who have membership in the Northeast Equipment Dealers' Association (NEDA). NEDA is a trade group for tractor parts dealers and is active in 12 States in the Northeast and Mid-Atlantic States. This information will be used to assess the impediments and barriers to adoption, as well as the incentives, for the distribution and sale of ROPS.

ROPS are generally provided to end users by tractor parts dealers, who constitute distribution channel intermediaries between the manufacturer and the consumer. However, little is known about the decision processes that tractor parts dealers follow in deciding whether or not to provide ROPS to end users. The current project will generate ranking scores for the importance given to various items of concern to tractor parts dealers; these most-important items were previously developed through review of relevant research studies.

CDC proposes to collect customized information, from 520 NEDA establishments, over a one-month period. This information will be of three kinds: 1. General screening information as to the appropriateness of administering a survey to the respondent organization; 2. Limited respondent perception of the demographic characteristics on the client base served by the NEDA establishment, and 3. Importance ranking of attributes of the process of providing ROPS, or the ROPS configuration itself.

This information will allow CDC to compile a systematic, quantifiable inventory of preference data for a group that is considered representative of tractor parts dealers nationwide. It will also allow CDC to develop recommendations for overcoming the barriers that have compromised the effectiveness of occupational health and safety programs.

The total estimated burden for the one-time retrospective data collection is 39 hours which is based on a reduced response rate of 90% (468 respondents), as indicated in the table below. The average burden per response is 5 minutes. There are no costs to respondents other than their time.

Estimated Annualized Burden Hours
Type of respondents | Form name | Number of respondents | Number of responses per respondent | Average burden per response (in hrs) | Total burden (in hrs)
Tractor Parts Dealers | ROPS Questionnaire for Tractor Parts Dealers | 468 | 1 | 5/60 | 39
Total |  |  |  |  | 39

Leroy A. Richardson,
Chief, Information Collection Review Office, Office of Scientific Integrity, Office of the Associate Director for Science, Office of the Director, Centers for Disease Control and Prevention.

[FR Doc. 2013-17740 Filed 7-23-13; 8:45 am]

BILLING CODE 4163-18-P